DEPARTMENT OF COMMERCE

Census Bureau

[Docket Number 220519-0116]

Current Mandatory Business Surveys

AGENCY: Census Bureau, Department of Commerce.

ACTION: Notice of determination.

SUMMARY: The Bureau of the Census (Census Bureau) will conduct the following current mandatory business surveys in 2022: Annual Business Survey, Annual Capital Expenditures Survey, Annual Retail Trade Survey, Annual Survey of Manufactures, Annual Wholesale Trade Survey, Business and Professional Classification Report, Business Enterprise Research and Development Survey, Management and Organizational Practices Survey, Management and Organizational Practices Survey for Hospitals, Manufacturers' Unfilled Orders Survey, Report of Organization, Service Annual Survey, and the Vehicle Inventory and Use Survey. We have determined that data collected from these surveys are needed to aid the efficient performance of essential governmental functions and have significant application to the needs of the public and industry. The data derived from these surveys, most of which have been conducted for many years, are not publicly available from nongovernmental or other governmental sources.

ADDRESSES: The Census Bureau will make available the reporting instructions to the organizations included in the surveys. Additional copies are available upon written request to the Director, 4600 Silver Hill Road, U.S. Census Bureau, Washington, DC 20233-0101.

FOR FURTHER INFORMATION CONTACT: Nick Orsini, Associate Director for Economic Programs, Telephone: 301-763-1858; Email: Nick.Orsini@census.gov.

SUPPLEMENTARY INFORMATION: The surveys described herein are authorized by Title 13, United States Code (U.S.C.), Section 182 and are necessary to furnish current data on the subjects covered by the major censuses. These surveys are made mandatory under the provisions of Sections 224 and 225 of Title 13, U.S.C. These surveys will provide continuing and timely national statistical data for the period between economic censuses. The data collected in the surveys will be within the general scope and nature of those inquiries covered in the economic census. The most recent economic census was conducted in 2018 for the reference year 2017. The next economic census will occur in 2023 for the reference year 2022.

Notice of specific reporting requirements for each survey, including who is to report, the information to be reported, the manner of reporting, and the time and place of filing reports, will be provided by mail or email only to those required to complete these surveys.

Annual Business Survey (ABS)

The ABS provides information on selected economic and demographic characteristics for businesses and business owners by sex, ethnicity, race, and veteran status. Further, the survey measures research and development for microbusinesses, new business topics such as innovation and technology, as well as other business characteristics. The ABS includes all nonfarm employer businesses filing Internal Revenue Service (IRS) tax forms as individual proprietorships, partnerships, or any other type of corporation, with receipts of $1,000 or more. The ABS is sponsored by the National Center for Science and Engineering Statistics (NCSES) within the National Science Foundation (NSF) and conducted by the Census Bureau for five years (2018-2022).

More information regarding the ABS can be found in the Information Collection Request approved by the Office of Management and Budget on June 17, 2021 at the following link: https://www.reginfo.gov/public/do/PRAViewICR?ref_nbr=202102-0607-002.

Annual Capital Expenditures Survey (ACES)

The ACES collects annual data on the amount of business expenditures for new and used structures and equipment from a sample of non-farm, non-governmental companies, organizations, and associations. Both employer and nonemployer companies are included in the survey. The data are the sole source of investment in buildings and other structures, machinery, and equipment by all private nonfarm businesses in the United States, by the investing industry, and by kind of investment.

More information regarding the ACES can be found in the Information Collection Request approved by the Office of Management and Budget on February 11, 2021 at the following link: https://www.reginfo.gov/public/do/PRAViewICR?ref_nbr=202012-0607-004.

Annual Retail Trade Survey (ARTS)

The ARTS collects data on annual sales, sales tax, e-commerce sales, year-end inventories, total operating expenses, purchases, and accounts receivable from a sample of employer firms with establishments classified in retail trade as defined by the North American Industry Classification System (NAICS). These data serve as a benchmark for the more frequent estimates compiled from the Monthly Retail Trade Survey.

More information regarding the ARTS can be found in the Information Collection Request approved by the Office of Management and Budget on February 2, 2021 at the following link: https://www.reginfo.gov/public/do/PRAViewICR?ref_nbr=202010-0607-001.

Annual Survey of Manufactures (ASM)

The ASM collects annual industry statistics, such as total value of shipments, employment, payroll, workers' hours, capital expenditures, cost of materials consumed, supplemental labor costs, and so forth. This survey is conducted on a sample basis, and covers all manufacturing industries, including data on plants under construction but not yet in operation. The ASM data are used to benchmark and reconcile monthly data on manufacturing production and inventories.

More information regarding the ASM can be found in the Information Collection Request approved by the Office of Management and Budget on January 4, 2021 at the following link: https://www.reginfo.gov/public/do/PRAViewICR?ref_nbr=202011-0607-003.

Annual Wholesale Trade Survey (AWTS)

The AWTS collects data on annual sales, e-commerce sales, year-end inventories held both inside and outside of the United States, method of inventory valuation, total operating expenses, purchases, gross selling value, and commissions from a sample of employer firms with establishments classified in wholesale trade as defined by the NAICS. These data serve as a benchmark for the more frequent estimates compiled from the Monthly Wholesale Trade Survey.

More information regarding the AWTS can be found in the Information Collection Request approved by the Office of Management and Budget on December 10, 2020 at the following link: https://www.reginfo.gov/public/do/PRAViewICR?ref_nbr=202009-0607-002.

Business and Professional Classification Report

The Business and Professional Classification Report collects one-time data on a firm's type of business activity from a sample of businesses that were recently assigned Federal Employer Identification Numbers or recently added to the scope of the Census Bureau's current business surveys. The data are used to update the sampling frames for our current business surveys. Additionally, the business classification data will help ensure businesses are directed to complete the correct report in the economic census.

More information regarding the Business and Professional Classification Report can be found in the Information Collection Request approved by the Office of Management and Budget on September 15, 2021 at the following link: https://www.reginfo.gov/public/do/PRAViewICR?ref_nbr=202105-0607-002.

Business Enterprise Research and Development Survey (BERD)

The BERD collects annual data on spending for research and development activities by businesses. The BERD collects foreign as well as domestic spending information, more detailed information about the R&D workforce, and information regarding intellectual property from U.S. businesses. The Census Bureau collects and compiles this information in accordance with a joint project agreement between the National Science Foundation (NSF) and the Census Bureau. The NSF posts the joint project's information results on their website.

More information regarding the BERD can be found in the Information Collection Request approved by the Office of Management and Budget on December 15, 2021 at the following link: https://www.reginfo.gov/public/do/PRAViewICR?ref_nbr=202108-0607-005.

Management and Organizational Practices Survey (MOPS)

The MOPS will be conducted as a joint project by the Census Bureau, the University of Chicago Booth School of Business, Stanford School of Humanities and Sciences, and the Stanford Institute for Human-Centered Artificial Intelligence. The MOPS will collect information on management and organizational practices of manufacturing firms at the establishment level. Data obtained from the survey will allow the Census Bureau to estimate a firm's stock of management and organizational assets, specifically the use of establishment performance data, such as production targets in decision-making and the prevalence of decentralized decision rights. The results will provide information on investments in management and organizational practices thus providing a better understanding of the benefits from these investments when measured in terms of firm productivity or firm market value.

More information regarding the MOPS can be found in the Information Collection Request approved by the Office of Management and Budget on March 7, 2022 at the following link: https://www.reginfo.gov/public/do/PRAViewICR?ref_nbr=202111-0607-002.

Management and Organizational Practices Survey for Hospitals (MOPS-HP)

The MOPS-HP collects information on the use of structured management practices from Chief Nursing Officers (CNOs) at approximately 3,200 hospitals with the goal of producing four publicly-available indices that measure key characteristics of these structured management practices. The MOPS-HP collects data for reference years 2020 and 2019.

The MOPS-HP will provide a deeper understanding of the business processes which impact an increasingly important sector of the economy; total national health expenditures represented almost 18 percent of U.S. gross domestic product in 2017 (National Center for Health Statistics).

More information regarding the MOPS-HP can be found in the Information Collection Request approved by the Office of Management and Budget on June 25, 2021 at the following link: https://www.reginfo.gov/public/do/PRAViewICR?ref_nbr=202102-0607-003.

Manufacturers' Unfilled Orders Survey (M3UFO)

The M3UFO collects annual data on sales and unfilled orders in order to provide annual benchmarks for unfilled orders for the monthly Manufacturers' Shipments, Inventories, and Orders (M3) survey. The M3UFO data are also used to determine whether it is necessary to collect unfilled orders data for specific industries on a monthly basis, as some industries are not requested to provide unfilled orders data in the M3 Survey.

More information regarding the M3UFO can be found in the Information Collection Request approved by the Office of Management and Budget on September 23, 2021 at the following link: https://www.reginfo.gov/public/do/PRAViewICR?ref_nbr=202104-0607-003.

Report of Organization

The Report of Organization collects annual data on ownership or control by a domestic or foreign parent and ownership of foreign affiliates. This includes research and development, company activities such as employees from a professional employer organization, operational status, mid-March employment, first-quarter payroll, and annual payroll of establishments from a sample of multi-establishment enterprises in order to update and maintain a centralized, multipurpose Business Register.

More information regarding the Report of Organization can be found in the Information Collection Request approved by the Office of Management and Budget on December 30, 2020 at the following link: https://www.reginfo.gov/public/do/PRAViewICR?ref_nbr=202007-0607-007.

Service Annual Survey (SAS)

The SAS collects annual data on total revenue, select detailed revenue, total and detailed expenses, and e-commerce revenue for a sample of businesses in the service industries. These industries include Utilities; Transportation and Warehousing; Information; Finance and Insurance; Real Estate and Rental and Leasing; Professional, Scientific, and Technical Services; Administration and Support and Waste Management and Remediation Services; Educational Services; Health Care and Social Assistance; Arts, Entertainment, and Recreation; Accommodation and Food Services; and Other Services as defined by the NAICS. These data serve as a benchmark for the more frequent estimates compiled from the Quarterly Services Survey.

More information regarding the SAS can be found in the Information Collection Request approved by the Office of Management and Budget on February 2, 2021 at the following link: https://www.reginfo.gov/public/do/PRAViewICR?ref_nbr=202012-0607-002.

Vehicle Inventory and Use Survey (VIUS)

The VIUS will collect data to measure the physical and operational characteristics of trucks from a sample of approximately 150,000 trucks. These trucks are selected from more than 190 million private and commercial trucks registered with motor vehicle departments in the 50 states and the District of Columbia. The VIUS is the only comprehensive source of information on the physical and operational characteristics of the Nation's truck population. The VIUS provides unique, essential information for government, business, and academia.

More information regarding the VIUS can be found in the Information Collection Request approved by the Office of Management and Budget on October 12, 2021 at the following link: https://www.reginfo.gov/public/do/PRAViewICR?ref_nbr=202108-0607-001.

Paperwork Reduction Act

Notwithstanding any other provision of law, no person is required to respond to, nor shall a person be subject to a penalty for failure to comply with a collection of information subject to the requirements of the Paperwork Reduction Act (PRA) unless that collection of information displays a currently valid Office of Management and Budget (OMB) control number. In accordance with the PRA, 44 U.S.C., Chapter 45, OMB approved the surveys described in this notice under the following OMB control numbers: ABS, 0607-1004; ACES, 0607-0782; ARTS, 0607-0013; ASM, 0607-0449; AWTS, 0607-0195; Business and Professional Classification Report, 0607-0189; BERD, 0607-0912; MOPS, 0607-0963; MOPS-HP, 0607-1016; M3UFO, 0607-0561; Report of Organization, 0607-0444; SAS, 0607-0422; and VIUS, 0607-0892.

Based upon the foregoing, I have directed that the current mandatory business surveys be conducted for the purpose of collecting these data.

Robert L. Santos, Director, Census Bureau, approved the publication of this Notice in the Federal Register.

Dated: June 14, 2022.
Mary Reuling Lenaiyasa,
Program Manager, Paperwork Reduction Act, Policy Coordination Office, Census Bureau.

[FR Doc. 2022-13313 Filed 6-21-22; 8:45 am]

BILLING CODE 3510-07-P